DEPARTMENT OF ENERGY

Federal Energy Regulatory Commission

[Docket No. CP08-405-000]

Questar Pipeline Company; Notice of Request Under Blanket Authorization

June 12, 2008.

Take notice that on May 22, 2008, Questar Pipeline Company (Questar), 180 East 100 South, P.O. Box 45360, Salt Lake City, Utah 84145-0360, filed in Docket No. CP08-405-000 a prior notice request pursuant to sections 157.205, 157.208 and 157.213 of the Commission's regulations under the Natural Gas Act (NGA) and Questar's blanket certificate issued in Docket No. CP82-491-000 for authorization to construct, own and operate two new reciprocating natural-gas-fired compressors, two parallel suction and discharge pipielines, interconnect piping, metering, and ancillary facilities located at Greasewood Compressor Station, adjacent to Questar's existing Maine Line (ML) 68 in Rio Blanco County, Colorado, as more fully set forth in the application, which is on file with the Commission and open to public inspection. Questar states that the estimated cost to construct the facilities is approximately $20,500,000. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to L. Bradley Burton, Manager, Federal Regulatory Affairs, Questar Pipeline Company, P.O. Box 45360, Salt Lake City, UT 84145-0360, or telephone (801) 324-2459 (e-mail brad.burton@questar.com).

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-13812 Filed 6-18-08; 8:45 am]

BILLING CODE 6717-01-P